DEPARTMENT OF ENERGY

Federal Energy Regulatory Commission

[Docket No. RM07-16-000]

Notice of Revision in Official Document Repository; Filing Via the Internet

The Federal Energy Regulatory Commission (FERC) hereby gives notice that the documents posted on eLibrary will serve as the Commission's official order and/or Commission action, and eLibrary will serve as the Commission's repository for the official record of Commission proceedings, including filings and Commission issuances. This policy revises the previous 2002 policy on available document formats for FERC issuances.¹ This revision applies to orders and notices issued by the Office of the Secretary, as well as to delegated orders and notices.

¹ Notice of Change in Available Document Formats for FERC Issuances (August 27, 2002), https://elibrary.ferc.gov/IDMWS/common/opennat.asp?fileID=9554319.

Persons with internet access can review and obtain official Commission issuances through the Commission's eLibrary system by using the FERC Online links at http://www.ferc.gov. The FERC website also includes an eSubscription link that enables persons with internet access to receive email notification when a document is added to a subscribed docket(s). For assistance with any FERC Online service, please email FERCOnlineSupport@ferc.gov or call (866) 208-3676 (toll free). For TTY, call (202) 502-8659. Persons without internet access also may contact FERC Online Support at these telephone numbers for assistance in obtaining official Commission issuances.

Dated: July 16, 2019.
Kimberly D. Bose,
Secretary.

[FR Doc. 2019-15484 Filed 7-19-19; 8:45 am]

BILLING CODE 6717-01-P